DEPARTMENT OF ENERGY

Federal Energy Regulatory Commission

[Docket No. IC21-37-000]

Commission Information Collection Activities (FERC-520); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection, FERC-520 (Application for Authority to Hold Interlocking Directorate Positions).

DATES: Comments on the collections of information are due October 12, 2021.

ADDRESSES: You may submit your comments (identified by Docket No. IC21-37-000) on FERC-520 by one of the following methods:

Electronic filing through http://www.ferc.gov is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, or by telephone at (202) 502-8663.

SUPPLEMENTARY INFORMATION: Title: FERC-520 (Application for Authority to Hold Interlocking Directorate Positions).

OMB Control No.: 1902-0083.

Type of Request: Three-year extension of the FERC-520 information collection requirements with no revisions to the current requirements.

Abstract: FERC Form No. 520 is an application requesting FERC authorization for officers and directors of regulated public utilities to simultaneously hold positions of officers and directors of certain other entities. Section 305(b)(1) of the Federal Power Act (FPA) ¹ prohibits the holding of specific interlocking positions unless the Commission has authorized the holding of such interlocks upon a determination that neither public nor private interests will be adversely affected.

¹ 16 U.S.C 825d(b)(1).

FERC-520 consists of three information collection activities. A “full application,” in accordance with 18 CFR 45.8, provides detailed information about the positions for which authorization is sought, including a description of duties. Submission of a more streamlined “informational report,” in accordance with 18 CFR 45.9, is a condition for an automatic grant of authorization to hold interlocking directorates. This automatic authorization is available only to certain types of officers and directors. Finally, a “notice of change,” in accordance with 18 CFR 45.5, is required within 60 days after an officer or director resigns or withdraws from Commission-authorized interlocked positions or if the applicant is not re-elected or reappointed to the interlocked position. However, no notice of change is required if the only change is: (1) A resignation or withdrawal from fewer than all position held between or among affiliated public utilities; (2) a reelection or reappointment to a position that was previously authorized; or (3) holding a different or additional interlocking position that would qualify for automatic authorization under 18 CFR 45.9.

Types of Respondents: Officers and directors of public utilities seeking authorization to hold interlocking directorates.

Estimate of Annual Burden: For full applications, 16 responses annually, and per-response burdens of 50 hours and $69,600. For informational reports, 500 responses annually, and per-response burdens of 8 hours and $348,000. For notices of change, 100 responses annually, and per-response burdens of 0.25 of an hour and $2,175. The total estimated burdens per year are 616 responses, 4,825 hours and $419,775. These burdens are itemized in the following table:

² Commission staff estimates that the average industry hourly cost for this information collection is approximated by the current FERC 2021 average hourly costs for wages and benefits, i.e., $87.00/hour.

Number of respondents | Number of respondents | Annual number of responses per respondent | Total number of responses (column A × column B) | Average burden & cost per response ² | Total annual burden hours & total annual cost (column C × column D) | Cost per respondent (column E ÷ column A)
| A | B | C | D | E | F
Full Application | 16 | 1 | 16 | 50 hrs.; $4,350 | 800 hrs.; $69,600 | $4,350
Informational Report | 500 | 1 | 500 | 8 hrs.; $696 | 4,000 hrs.; $348,000 | $696
Notice of Change | 100 | 1 | 100 | 0.25 hrs.; $21.75 | 25 hrs.; $2,175 | $21.75
Totals | 616 | N/A | 616 | N/A | 4,825 hrs.; $419,775 | N/A

Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 5, 2021.
Kimberly D. Bose,
Secretary.

[FR Doc. 2021-17134 Filed 8-10-21; 8:45 am]

BILLING CODE 6717-01-P